DEPARTMENT OF DEFENSE

Department of the Air Force

Availability of the Record of Decision for the Los Angeles Air Force Base Land Conveyance and Development Project

ACTION: Notice of Availability (NOA) of the Record of Decision (ROD) for the Los Angeles Air Force Base Land Conveyance, Construction and Development Project, Transfer Portions of Private Development in Exchange for Construction of New Seismically Stable Facilities, Cities of El Segundo and Hawthorne, Los Angeles County, CA.

SUMMARY: The ROD is based on a Final Environmental Impact Statement (FEIS) with a notice of availability (NOA) published on July 3, 2003 Federal Register (FR): (Volume 68, Number 128) Page 39940) having a waiting period ending August 18, 2003. Due to an error, EPA issued an amended NOA, revising the FR Notice Public on July 3, 2003 stating the CEQ Comment Period previously Ending August 18, 2003 has been Corrected to CEQ Wait Period Ending August 4, 2003 Federal Register: July 11, 2003 (Volume 68, Number 133), Page 41338-41339)

FOR FURTHER INFORMATION CONTACT: Jack Bush, Headquarter United States Air Force 703-604-5264, or Jason Taylor, Los Angeles Air Force Base, (310) 363-0142.

Pamela Fitzgerald,
Air Force Federal Register Liaison Officer.

[FR Doc. 03-23211 Filed 9-11-03; 8:45 am]

BILLING CODE 5001-05-M